DEPARTMENT OF COMMERCE

National Oceanic and Atmospheric Administration

RIN 0648-XA848

Endangered Species; File No. 16134

AGENCY: National Marine Fisheries Service (NMFS), National Oceanic and Atmospheric Administration (NOAA), Commerce.

ACTION: Issuance of permit.

SUMMARY: Notice is hereby given that Virginia Aquarium and Marine Science Center Foundation [Responsible Party: Mark Swingle], 717 General Booth Blvd., Virginia Beach, VA 23451 has been issued a permit to take green (Chelonia mydas), Kemp's ridley (Lepidochelys kempii), hawksbill (Eretmochelys imbricata), leatherback (Dermochelys coriacea), and loggerhead (Caretta caretta) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Ave. South, St. Petersburg, FL 33701; phone (727) 824-5312; fax (727) 824-5309.

FOR FURTHER INFORMATION CONTACT: Kristy Beard or Amy Hapeman, (301) 427-8401.

SUPPLEMENTARY INFORMATION: On December 9, 2011, notice was published in the Federal Register (76 FR 76950) that a request for a scientific research permit to take the above-listed species had been submitted by the above-named organization. The requested permit has been issued under the authority of the Endangered Species Act of 1973, as amended (ESA; 16 U.S.C. 1531 et seq.) and the regulations governing the taking, importing, and exporting of endangered and threatened species (50 CFR parts 222-226).

The five-year permit authorizes research on leatherback, loggerhead, green, hawksbill, and Kemp's ridley sea turtles in mid-Atlantic waters from North Carolina to New Jersey. The purposes of the research are to: (1) Update current knowledge of loggerhead and Kemp's ridley sea turtle abundance, distribution, health, and nutrition in Chesapeake Bay and nearshore Virginia waters, (2) compare the relative abundance, size distribution, sex ratio, health parameters and genetic diversity of loggerhead and Kemp's ridley sea turtles in U.S. mid-Atlantic coastal waters, and (3) build baseline data on less common sea turtle species in the region. Turtles will be captured using tangle nets or hand/dip nets. Subject turtles may also be acquired from other legal sources: Virginia pound net fisheries and dredge mitigating trawls. The following procedures may be conducted on sea turtles prior to release: Epibiota removal, satellite tag, temporarily mark the carapace, attach flipper and passive integrated transponder tags, measure, photograph, oral swab, weigh, and sample blood, feces, keratin, and tissue.

Issuance of this permit, as required by the ESA, was based on a finding that such permit (1) was applied for in good faith, (2) will not operate to the disadvantage of such endangered or threatened species, and (3) is consistent with the purposes and policies set forth in section 2 of the ESA.

Dated: August 30, 2012.
P. Michael Payne,
Chief, Permits and Conservation Division, Office of Protected Resources, National Marine Fisheries Service.

[FR Doc. 2012-21852 Filed 9-4-12; 8:45 am]

BILLING CODE 3510-22-P